DEPARTMENT OF EDUCATION

[Docket No.: ED-2021-SCC-0073]

Agency Information Collection Activities; Submission to the Office of Management and Budget for Review and Approval; Comment Request; Early Childhood Longitudinal Study, Kindergarten Class of 2023-24 (ECLS-K:2024) Preschool Round Removal Change Request

AGENCY: National Center for Education Statistics (NCES), Institute of Education Sciences (IES), Department of Education (ED).

ACTION: Notice.

SUMMARY: In accordance with the Paperwork Reduction Act of 1995, ED is proposing a no material or nonsubstantive change to a currently approved information collection.

DATES: Interested persons are invited to submit comments on or before June 11, 2021.

ADDRESSES: Written comments and recommendations for proposed information collection requests should be submitted within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Carrie Clarady, 202-245-6347 or email NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Childhood Longitudinal Study, Kindergarten Class of 2023-24 (ECLS-K:2024) Preschool Round Removal Change Request.

OMB Control Number: 1850-0750.

Type of Review: No material or nonsubstantive change of a currently approved information collection.

Respondents/Affected Public: Individuals or households.

Total Estimated Number of Annual Responses: 46,033.

Total Estimated Number of Annual Burden Hours: 8,655.

Abstract: The Early Childhood Longitudinal Study (ECLS) program, conducted by the National Center for Education Statistics (NCES) within the Institute of Education Sciences (IES) of the U.S. Department of Education (ED), draws together information from multiple sources to provide rich, descriptive data on child development, early learning, and school progress. The ECLS program studies deliver national data on children's status at birth and at various points thereafter; children's transitions to nonparental care, early care and education programs, and school; and children's experiences and growth through the elementary grades. The Early Childhood Longitudinal Study, Kindergarten Class of 2022-23 (ECLS-K:2023) is the fourth cohort in the series of early childhood longitudinal studies. The study will advance research in child development and early learning by providing a detailed and comprehensive source of current information on children's early learning and development, transitions into kindergarten and beyond, and progress through school. Collecting parent data beginning in preschool will enable the study to measure influences on children's development before entry into formal schooling, including children's home environments and access to early care and education. The request to conduct a field test of the ECLS-K:2023 preschool data collection activities from January through October 2020, to field test the preschool data collection materials and procedures, was approved in November 2019 (OMB# 1850-0750 v.19), with change requests approved in January and July 2020 (OMB #1850-0750 v.20-21). In April 2021, OMB approved a one year study delay (OMB #1850-0750 v.22), and the study is now the Early Childhood Longitudinal Study, Kindergarten Class of 2023-24 (ECLS-K:2024). This request is to notify OMB and the public that, following analysis of the results of the preschool field test that was carried out in 2020, NCES has decided not to go forward with the national ECLS-K: 2024 preschool round in spring 2023. No other planned procedures or features of the study will change. Approval for the fall 2022 kindergarten-first grade field test and national study recruitment will be requested in a separate submission later in 2021.

Stephanie Valentine,
PRA Coordinator, Strategic Collections and Clearance Governance and Strategy Division, Office of Chief Data Officer, Office of Planning, Evaluation and Policy Development.

[FR Doc. 2021-09977 Filed 5-11-21; 8:45 am]

BILLING CODE 4000-01-P